DEPARTMENT OF TRANSPORTATION

National Highway Traffic Safety Administration

[Docket No. NHTSA-2016-0143; Notice 2]

Mercedes-Benz USA, LLC, Grant of Petition for Decision of Inconsequential Noncompliance

AGENCY: National Highway Traffic Safety Administration (NHTSA), Department of Transportation (DOT).

ACTION: Grant of petition.

SUMMARY: Mercedes-Benz USA, LLC (MBUSA) on behalf of itself and its parent company Daimler AG (DAG), has determined that certain model year (MY) 2016-2017 Mercedes-Benz GLE and GLS-Class motor vehicles do not fully comply with Federal Motor Vehicle Safety Standard (FMVSS) No. 110, Tire Selection and Rims and Motor Home/Recreation Vehicle Trailer Load Carrying Capacity Information for Motor Vehicles with a GVWR of 4,536 kilograms (10,000 pounds) or Less. MBUSA filed a noncompliance information report dated December 12, 2016, and subsequently petitioned NHTSA on December 22, 2016, for a decision that the subject noncompliance is inconsequential as it relates to motor vehicle safety. This document announces the grant of MBUSA's petition.

FOR FURTHER INFORMATION CONTACT: Kerrin Bressant, Office of Vehicle Safety Compliance, NHTSA, telephone (202) 366-1110, facsimile (202) 366-5930.

SUPPLEMENTARY INFORMATION:

I. Overview: MBUSA has determined that certain MY 2016-2017 Mercedes-Benz GLE and GLS-Class motor vehicles do not fully comply with paragraph S4.3 of FMVSS No. 110, Tire Selection and Rims and Motor Home/Recreation Vehicle Trailer Load Carrying Capacity Information for Motor Vehicles with a GVWR of 4,536 kilograms (10,000 pounds) or Less (49 CFR 571.110). MBUSA filed a noncompliance information report dated December 12, 2016, pursuant to 49 CFR part 573, Defect and Noncompliance Responsibility and Reports. MBUSA subsequently petitioned NHTSA on December 22, 2016, pursuant to 49 U.S.C. 30118(d) and 30120(h) and 49 CFR part 556, Exemption for Inconsequential Defect or Noncompliance, for an exemption from the notification and remedy requirements of 49 U.S.C. Chapter 301 on the basis that this noncompliance is inconsequential as it relates to motor vehicle safety.

Notice of receipt of MBUSA's petition was published, with a 30-day public comment period on April 11, 2017, in the Federal Register (82 FR 17515). No comments were received. To view the petition and all supporting documents, log onto the Federal Docket Management System (FDMS) web page at: http://www.regulations.gov/ and follow the online search instruction to locate docket number “NHTSA-2016-0143.”

II. Vehicles Involved: Approximately 142 of the following Mercedes-Benz GLE and GLS-Class motor vehicles manufactured on June 14 and June 15, 2016, are potentially involved:

• 2016 Mercedes-Benz GLE300d 4Matic

• 2016 Mercedes-Benz GLE350

• 2016 Mercedes-Benz GLE350 4Matic

• 2016 Mercedes-Benz GLE400 4Matic

• 2016 Mercedes-Benz GLE550e 4Matic

• 2016 Mercedes-Benz GLE63S AMG 4Matic

• 2017 Mercedes-Benz GL450 4Matic

• 2017 Mercedes-Benz GL550 4Matic

III. Noncompliance: MBUSA explains that the noncompliance is that the tire information placard affixed to the driver's side B-pillar on the subject vehicles was improperly printed and therefore does not meet the requirements of paragraph S4.3 of FMVSS No. 110. Specifically, the column identifying whether the tire is front, rear, or spare might not be completely legible.

IV. Rule Text: Paragraph S4.3 of FMVSS No. 110 includes the requirements relevant to this petition:

• Each vehicle, except for a trailer or incomplete vehicle shall show the information specified in paragraph S4.3 (a) through (g), and may show, at the manufacturer's option, the information specified in paragraph S4.3 (h) and (i), on a placard permanently affixed to the driver's side B-pillar.

• This information shall be in the English language and conform in color and format, not including the border surrounding the entire placard, as shown in the example set forth in Figure 1 of FMVSS No. 110:

(c) Vehicle manufacturer's recommended cold tire inflation pressure for front, rear and spare tires.

(d) Tire size designation, indicated by the headings “size” or “original tire size” or “original size” and “spare tire” or “spare,” for the tires installed at the time of first purchase for purposes other than resale.

V. Summary of MBUSA's Petition: MBUSA described the subject noncompliance and stated its belief that the noncompliance is inconsequential as it relates to motor vehicle safety.

In support of its petition, MBUSA submitted the following reasoning:

1. The row names “front/rear/spare” might not be completely legible, but the tire dimensions and pressure values are legible and correct.

2. The data, including the “front/rear/spare” designations, is also available on the tank flap to the gas tank (also referred to as the “filler flap”).

3. After identifying the potentially noncompliant B-pillar tire information placards, DAG analyzed potential technical implications, specifically with respect to the requirements of FMVSS No. 110, and did not identify any technical implications since the label remains substantially legible and the same information is provided elsewhere on the vehicle.

4. MBUSA has received neither customer complaints nor information about any accidents or injuries alleged to have occurred as a result of this noncompliance.

5. DAG has correct labels in production as of June 15, 2016.

MBUSA concluded by expressing the belief that the subject noncompliance is inconsequential as it relates to motor vehicle safety, and that its petition to be exempted from providing notification of the noncompliance, as required by 49 U.S.C. 30118, and a remedy for the noncompliance, as required by 49 U.S.C. 30120, should be granted.

VI. NHTSA's Analysis: MBUSA explained that the noncompliance is that the subject vehicles are equipped with an FMVSS No. 110 tire and information vehicle placard which isn't properly printed. FMVSS No. 110 requires that the vehicle placard identify the installed tire sizes and recommended inflation pressures for each vehicle axle (i.e. front and rear) and the size of the spare tire, if equipped. The axle and spare tire identification labeling on the affected vehicles is not completely legible, however, the given tire dimensions and inflation pressure values on the label are correct.

Assuming a worst-case scenario where the axle and spare tire identification information (i.e., front, rear and spare) were totally missing, the vehicle operator could inadvertently be misguided to the incorrect inflation pressure for the tires installed on each axle and the spare tire. The operator could easily identify the tire size by visually looking at the tires fitted to each axle and the spare tire. By comparing the actual tire sizes to the information on the vehicle placard, the spare tire could be easily differentiated from the tires mounted on the axles because of its much smaller size. The same tire size is used on both the front and rear axles. The vehicle placards on the subject vehicles recommend 41-45 psi for the front axle and 44-51 psi for the rear axle, depending on the model type. The concern is that the vehicle placards list two different inflation pressures for the tires mounted on the vehicles, but does not properly identify what pressure is for the front axle and which is for the rear axle.

FMVSS No. 110 requires the tires, at the recommended inflation pressures, be appropriate for the vehicle's gross axle weight ratings (GAWRs). The agency evaluated the affected vehicles against this FMVSS No. 110 requirement and in the unlikely event that the operator “guessed” incorrectly or simply opted to inflate all four tires to the lowest stated pressure, the tires would be appropriate for the vehicle's GAWRs. Information provided by the ETRTO (European Tire and Rim Technical Organization) validates that at the lower pressures, the tires on the subject vehicles, are adequate to handle maximum vehicle loads.

In further communications regarding this petition, MBUSA mentioned that the subject vehicles are also equipped with gas tank flap labels that provide the recommended inflation pressures for the tires and corresponding axles. The gas tank flap label clearly states what inflation pressures should be used for each axle. Upon evaluation of the information provided on the gas tank flap labels, the agency noted that some of the pressures are exactly the same as those specified on the vehicle placard label discussed above, however, on many of the vehicles the pressures on both axles are 4 psi less than those listed on the vehicle placard. The agency conducted a second evaluation to see if the tires on the subject vehicles, at the lower gas tank flap labeled inflation pressures, would still be appropriate for the respective vehicle GAWRs in accordance with the requirements of FMVSS No. 110. The agency determined that the tires on the subject vehicles, at the inflation pressures stated on the alternative gas tank flap labels, would still be appropriate for the respective vehicle's GAWRs.

The agency also considered the safety implications of providing a partially legible FMVSS No. 110 vehicle placard on the subject vehicles. Vehicle placards are typically referenced by vehicle operators and relay important information pertaining to tire and loading information. As MBUSA mentioned, the labels on the subject vehicles are substantially legible and clearly provide the vehicle capacity weight, seating capacity and position, as well as the tire sizes with corresponding recommended tire inflation pressures. These labels also recommend that the owner's manual can be referenced for further information. The tire related information that may not be legible can be readily found in other locations (i.e. gas tank filler flap, tire sidewall, and owner's manual).

VII. NHTSA's Decision: In consideration of the foregoing, NHTSA has decided that MBUSA has met its burden of persuasion that the subject noncompliance with FMVSS No. 110 is inconsequential to motor vehicle safety. Accordingly, NHTSA hereby grants MBUSA's petition. MBUSA is therefore exempted from the obligation of providing notification of and free remedy for, that noncompliance under 49 U.S.C. 30118 AND 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject vehicles that MBUSA no longer controlled at the time it determined that the noncompliance existed. However, the granting of this petition does not relieve vehicle distributors and dealers of the prohibitions on the sale, offer for sale, or introduction or delivery for introduction into interstate commerce of the noncompliant vehicles under their control after MBUSA notified them that the subject noncompliance existed.

Authority: (49 U.S.C. 30118, 30120: delegations of authority at 49 CFR 1.95 and 501.8).

Otto G. Matheke III,
Director, Office of Vehicle Safety Compliance.

[FR Doc. 2019-11212 Filed 5-29-19; 8:45 am]

BILLING CODE 4910-59-P